Title 3—

The President

Proclamation 7760 of March 5, 2004

Irish-American Heritage Month, 2004

By the President of the United States of America

A Proclamation

Millions of Americans trace their ancestry to Ireland's shores. During Irish-American Heritage Month, we recognize these proud citizens and their important contributions to America.

Irish Americans have helped settle the American frontier, build our cities, and defend our homeland. Through their service in government and the military, they have helped to uphold our democracy and advance liberty and peace around the world. Through their dedication to faith and family, they have strengthened our communities and enriched our Nation's character.

The names of Irish Americans who have helped make America great are familiar. Davy Crockett and Sam Houston helped settle the West. As Archbishop, John Cardinal O'Connor served the people of New York with conviction and compassion. President John Kennedy led America with steadfast determination during a time of great challenge.

These and millions of other Irish Americans have made America better and stronger. This month, we celebrate the enormous gifts Irish Americans have given this Nation.

NOW, THEREFORE, I, GEORGE W. BUSH, President of the United States of America, by virtue of the authority vested in me by the Constitution and laws of the United States, do hereby proclaim March 2004 as Irish-American Heritage Month. I call upon all Americans to observe this month by celebrating the contributions of Irish Americans to our Nation.

IN WITNESS WHEREOF, I have hereunto set my hand this fifth day of March, in the year of our Lord two thousand four, and of the Independence of the United States of America the two hundred and twenty-eighth.

B

[FR Doc. 04-5577

Filed 3-9-04; 8:45 am]

Billing code 3195-01-P